SMALL BUSINESS ADMINISTRATION

[Declaration of Disaster #3463)

State of Alabama

As a result of the President's major disaster declaration on November 14, 2002, I find that Barbour, Bibb, Blount, Calhoun, Cherokee, Cleburne, Cullman, Dale, DeKalb, Etowah, Fayette, Franklin, Greene, Hale, Henry, Houston, Jefferson, Lamar, Lawrence, Marion, Marshall, Morgan, Pickens, Shelby, St. Clair, Talladega, Tuscaloosa, Walker and Winston Counties in the State of Alabama constitute a disaster area due to damages caused by severe storms and tornadoes occurring on November 5 through November 12, 2002. Applications for loans for physical damage as a result of this disaster may be filed until the close of business on January 13, 2003 and for economic injury until the close of business on August 14, 2003 at the address listed below or other locally announced locations: U.S. Small Business Administration, Disaster Area 2 Office, One Baltimore Place, Suite 300, Atlanta, GA 30308.

In addition, applications for economic injury loans from small businesses located in the following contiguous counties may be filed until the specified date at the above location: Bullock, Chilton, Clay, Coffee, Colbert, Coosa, Geneva, Jackson, Lauderdale, Limestone, Madison, Marengo, Perry, Pike, Randolph, Russell and Sumter in the State of Alabama ; Holmes and Jackson counties in the State of Florida; Carroll, Chattooga, Clay, Dade, Early, Floyd, Haralson, Polk, Quitman, Seminole, Stewart and Walker counties in the State of Georgia; Itawamba, Lowndes, Monroe, Noxubee and Tishomingo counties in the State of Mississippi.

The interest rates are:

| Percent
For Physical Damage:
Homeowners with credit available elsewhere | 5.875
Homeowners without credit available elsewhere | 2.937
Businesses with credit available elsewhere | 6.648
Businesses and non-profit organizations without credit available elsewhere | 3.324
Others (including non-profit organizations) with credit available elsewhere | 5.500
For Economic Injury:
Businesses and Small Agricultural Cooperatives Without Credit Available Elsewhere | 3.324

The number assigned to this disaster for physical damage is 346312. For economic injury the number is 9S5500 for Alabama; 9S5600 for Florida; 9S5700 for Georgia; and 9S5800 for Mississippi.

(Catalog of Federal Domestic Assistance Program Nos. 59002 and 59008)
Dated: November 15, 2002.
S. George Camp,
Acting Associate Administrator for Disaster Assistance.

[FR Doc. 02-29648 Filed 11-20-02; 8:45 am]

BILLING CODE 8025-01-P